DEPARTMENT OF JUSTICE

Antitrust Division

Notice Pursuant to the National Cooperative Research and Production Act of 1993—J Consortium, Inc.

Notice is hereby given that, on July 12, 2001, pursuant to Section 6(a) of the National Cooperative Research and Production Act of 1993, 15 U.S.C. 4301 et seq. (“the Act”), J Consortium, Inc. has filed written notifications simultaneously with the Attorney General and the Federal Trade Commission disclosing changes in its membership status. The notifications were filed for the purpose of extending the Act's provisions limiting the recovery of antitrust plaintiffs to actual damages under specified circumstances. Specifically, Solidware, Beaverton, OR; NOVATEK Inc., Baltimore, MD; ACIONYX, Cupertino, CA; Intrinsyc Software, Chicago, IL; FLYSCAN Technologies, Nepean, Ontario, Canada; Spall Andreas (individual member), Woerth, Germany; Ted R. Booth III (individual member), San Diego, CA; Frank Chuang (individual member), Taipei, Taiwan; Markus Dommann (individual member), Zurich, Switzerland; Michael B. Hamrick (individual member), Provo, UT; James Hunt (individual member), Baden-Wurtember, Germany; Yerang Hur (individual member), Drexel Hill, PA; Marcus Johnson (individual member), San Jose, CA; Garvin LeClaireq (individual member), Erlanger, KY; Mok H.N. (individual member), Singapore, Singapore; Martin Schwartz (individual member), Berlin, Germany; Dave Siracusa (individual member), Newton Square, PA; Insop Song (individual member), Waterloo, Ontario, Canada; Michael J. Sipin (individual member), Bloomington, CA; Ranga Sreenivasan (individual member), Rohnert Park, CA; Manickavel Subramani (individual member), Boyds, MD; and Adusumilli Suresh (individual member), Secunderabad, Andhra Pradesh, India have been added as parties to this venture.

No other changes have been made in either the membership or planned activity of the group research project. Membership in this group research project remains open, and J Consortium, Inc. intends to file additional written notification disclosing all changes in membership.

On August 9, 1999, J Consortium, Inc. filed its original notification pursuant to Section 6(a) of the Act. The Department of Justice published a notice in the Federal Register pursuant to Section 6(b) of the Act on March 21, 2000 (65 FR 15175).

The last notification was filed with the Department on April 16, 2001. A notice was published in the Federal Register pursuant to Section 6(b) of the Act on July 19, 2001 (66 FR 37708).

Constance K. Robinson,
Director of Operations, Antitrust Division.

[FR Doc. 01-20091 Filed 8-9-01; 8:45 am]

BILLING CODE 4410-11-M